DEPARTMENT OF TRANSPORTATION

Federal Aviation Administration

Notice of Submission Deadline for Schedule Information for Chicago O'Hare International Airport, John F. Kennedy International Airport, Los Angeles International Airport, Newark Liberty International Airport, and San Francisco International Airport for the Summer 2023 Scheduling Season

AGENCY: Department of Transportation, Federal Aviation Administration (FAA).

ACTION: Notice of submission deadline.

SUMMARY: Under this notice, the FAA announces the submission deadline of October 6, 2022, for Summer 2023 flight schedules at Chicago O'Hare International Airport (ORD), John F. Kennedy International Airport (JFK), Los Angeles International Airport (LAX), Newark Liberty International Airport (EWR), and San Francisco International Airport (SFO).

DATES: Schedules should be submitted by October 6, 2022.

ADDRESSES: Schedules may be submitted to the Slot Administration Office by email to: 7-AWA-slotadmin@faa.gov.

FOR FURTHER INFORMATION CONTACT: Al Meilus, Manager, Slot Administration and Capacity Analysis, FAA ATO System Operations Services, AJR-G, Federal Aviation Administration, 800 Independence Avenue SW, Washington, DC 20591; telephone (202) 267-2822; email Al.Meilus@faa.gov.

SUPPLEMENTARY INFORMATION: This document provides routine notice to carriers serving capacity-constrained airports in the United States, including ORD, JFK, LAX, EWR, and SFO. In particular, this notice announces the deadline for carriers to submit schedules for the Summer 2023 scheduling season. The FAA deadline coincides with the schedule submission deadline established in the Calendar of Coordination Activities as published by the International Air Transport Association (IATA).¹

¹ www.iata.org/contentassets/4ede2aabfcc14a55919e468054d714fe/calendar-coordination-activities.pdf.

General Information for All Airports

The FAA has designated JFK as an IATA Level 3 airport consistent with the Worldwide Slot Guidelines (WSG).² The FAA currently limits scheduled operations at JFK by order that expires on October 29, 2022.³ The FAA intends to extend the JFK Order as well as a similar order that applies to LGA.⁴

² The FAA generally applies the WSG to the extent there is no conflict with U.S. law or regulation. The FAA recognizes the WSG has been replaced by the Worldwide Airports Slot Guidelines (WASG) edition 1, effective June 1, 2020, and subsequently WASG edition 2, effective July 1, 2022. The WASG is published jointly by Airports Council International-World, IATA, and the Worldwide Airport Coordinators Group (WWACG). While the FAA is considering whether to implement certain changes to the Guidelines in the United States, it will continue to apply WSG edition 9.

³ Operating Limitations at John F. Kennedy International Airport, 73 FR 3510 (Jan. 18, 2008), as most recently extended 85 FR 58258 (Sept. 18, 2020). The slot coordination parameters for JFK are set forth in this Order.

⁴ Operating Limitations at New York LaGuardia Airport, 71 FR 77854 (Dec. 27, 2006), as most recently extended 85 FR 38255, (Sep. 18, 2020). LGA is the equivalent of an IATA Level 3, coordinated airport. Schedule submissions at LGA are not required for the Summer 2023 scheduling season as slots at LGA are allocated and managed by the FAA under separate rules and processes.

The FAA has designated EWR, LAX, ORD, and SFO as Level 2 airports ⁵ subject to a schedule review process premised upon voluntary cooperation. The Summer 2023 scheduling season is from March 26, 2023, through October 28, 2023, in recognition of the IATA summer scheduling period.

⁵ These designations remain effective until the FAA announces a change in the Federal Register.

The FAA is primarily concerned about scheduled and other regularly conducted commercial operations during designated hours, but carriers may submit schedule plans for the entire day. The designated hours for the Summer 2023 scheduling season are: at EWR and JFK, from 0600 to 2300 Eastern Time (1000 to 0300 UTC); at LAX and SFO, from 0600 to 2300 Pacific Time (1300 to 0600 UTC); and at ORD, from 0600 to 2100 Central Time (1100 to 0200 UTC). These hours are unchanged from previous scheduling seasons.

Carriers should submit schedule information in sufficient detail including, at minimum, the marketing or operating carrier, flight number, scheduled time of operation, frequency, aircraft equipment, and effective dates. IATA standard schedule information format and data elements for communications at Level 2 and Level 3 airports in the IATA Standard Schedules Information Manual (SSIM) Chapter 6 may be used. The WSG provides additional information on schedule submissions at Level 2 and Level 3 airports. Some carriers at JFK manage and track slots through FAA-assigned Slot ID numbers corresponding to an arrival or departure slot in a particular half-hour on a particular day of week and date. The FAA has a similar voluntary process for tracking schedules at EWR with Reference IDs, and certain carriers are managing their schedules accordingly. The primary users of IDs are United States and Canadian carriers that have the highest frequencies and considerable schedule changes throughout the season and can benefit from a simplified exchange of information not dependent on full flight details. Carriers are encouraged to submit schedule requests at those airports using Slot or Reference IDs.

As stated in the WSG, schedule facilitation at a Level 2 airport is based on the following: (1) schedule adjustments are mutually agreed upon between the carriers and the facilitator; (2) the intent to avoid exceeding the airport's coordination parameters; (3) the concepts of historic precedence and series of slots do not apply at Level 2 airports (although WSG recommends giving priority to approved services that plan to operate unchanged from the previous equivalent season at Level 2 airports); and (4) the facilitator should adjust the smallest number of flights by the least amount of time necessary to avoid exceeding the airport's coordination parameters. Consistent with the WSG, the success of Level 2 in the United States depends on the voluntary cooperation of carriers.

The FAA considers several factors and priorities that are consistent with the WSG as it reviews schedule and slot requests at Level 2 and Level 3 airports, including (1) historic slots or services from the previous equivalent season over new demand for the same timings; (2) services that are unchanged over services that plan to change time or other capacity relevant parameters; (3) introduction of year-round services; (4) effective period of operation; (5) regularly planned operations over ad hoc operations; and (6) other operational factors that may limit a carrier's timing flexibility.

The FAA seeks to maintain close communications with carriers and terminal schedule facilitators on potential runway schedule issues or terminal and gate issues that may affect the runway times. In addition to applying these priorities from the WSG, the U.S. Government has adopted a number of measures and procedures to promote competition and new entry at U.S. slot-controlled and schedule-facilitated airports.

Consistent with the limited, conditional extension of COVID-19 related relief for the Summer 2022 scheduling season,⁶ slots or schedules operated as approved on a non-historic or an ad hoc basis in Summer 2022 will be given priority over new requests for the same timings in Summer 2023, subject to capacity availability and consistent with established rules and policies in effect in the United States. This priority applies to slot or schedule requests for Summer 2023, which are comparable in timing, frequency, and duration to the ad hoc approvals made by the FAA for Summer 2022 and operated by the carrier as approved. This priority does not affect the historic precedence or priority of slot holders and carriers with schedule approvals, respectively, which met the conditions of the waiver during Summer 2022 and which seek to resume operating in Summer 2023. The FAA may consider this priority in the event that slots with the potential for historic precedence become available for permanent allocation by the FAA. Foreign air carriers seeking priority under this provision will be required to represent that their home jurisdiction will provide reciprocal priority to U.S. carrier requests of this nature.

⁶ See FAA Notice of Limited, Conditional Extension of COVID-19 Related Relief for International Operations only for the Summer 2022 Scheduling Season, 87 FR 18057 (Mar. 29, 2022).

Slot management in the United States differs in some respects from procedures in other countries. In the United States, the FAA is responsible for facilitation and coordination of runway access for takeoffs and landings at Level 2 and Level 3 airports; however, the airport authority or its designee is responsible for facilitation and coordination of terminal/gate/airport facility access. The process with the individual airports for terminal access and other airport services is separate from, and in addition to, the FAA schedule review based on runway capacity.

Generally, the FAA uses average hourly runway capacity throughput for airports and performance metrics in conducting its schedule review at Level 2 airports and determining the scheduling limits at Level 3 airports included in FAA rules or orders.⁷ The FAA also considers other factors that can affect operations, such as capacity changes due to runway, taxiway, or other airport construction, air traffic control procedural changes, airport surface operations, and historical or projected flight delays and congestion.

⁷ The FAA typically determines an airport's average adjusted runway capacity or typical throughput for Level 2 airports by reviewing hourly data on the arrival and departure rates that air traffic control indicates could be accepted for that hour, commonly known as “called” rates. The FAA also reviews the actual number of arrivals and departures that operated in the same hour. Generally, the FAA uses the higher of the two numbers, called or actual, for identifying trends and schedule review purposes. Some dates are excluded from analysis, such as during periods when extended airport closures or construction could affect capacity.

Finally, the FAA notes that the schedule information submitted by carriers to the FAA may be subject to disclosure under the Freedom of Information Act (FOIA). The WSG also provides for release of information at certain stages of slot coordination and schedule facilitation. In general, once it acts on a schedule submission or slot request, the FAA may release information on slot allocation or similar slot transactions, or schedule information reviewed as part of the schedule facilitation process. The FAA does not expect that practice to change, and most slot and schedule information would not be exempt from release under FOIA. The FAA recognizes that some carriers may submit information on schedule plans that is both customarily and actually treated as private. Carriers that submit such confidential schedule information should clearly mark the information, or any relevant portions thereof, as proprietary information (“PROPIN”). The FAA will take the necessary steps to protect properly designated information to the extent allowable by law.

EWR General Information

Consistent with the WSG, carriers are asked for their voluntary cooperation to adjust schedules to meet the targeted scheduling limits in order to minimize potential congestion and delay. For the Summer 2023 scheduling season, the voluntary, targeted hourly scheduling limits remains at 79 operations and 43 operations per half-hour.⁸ To help with a balance between arrivals and departures, the targeted maximum number of scheduled arrivals or departures, respectively, is 43 in an hour and 24 in a half-hour. These targets are expected to allow some higher levels of operations in certain periods (not to exceed the hourly limits) and some recovery from lower demand in adjacent periods. Consistent with general established practice at EWR, the FAA will accept flights above the limits if the flights were operated as approved, or treated as operated, by the same carrier on a regular basis in the previous corresponding season (i.e., Summer 2022) and consistent with the recent DOT reassignment of 16 peak-hour runway timings.⁹

⁸ 83 FR 21335 (May 9, 2018).

⁹ See Department of Transportation Order 2022-7-1, Docket DOT-OST-2021-0103, served July 5, 2022, “Reassignment of Schedules at Newark-Liberty International Airport”.

The FAA is aware that some carriers have recently operated flights without approved runway times, which is inconsistent with Level 2 airport principles. Carriers are reminded FAA approval for runway times is separate from the approval process for gates or other airport infrastructure and both are essential for the success of Level 2 at EWR. Schedule facilitation at Level 2 airports is designed to engender collaboration and gain mutual agreement between the carriers and the FAA regarding schedules and potential adjustments to stay within the performance goals and capacity limits of the airport and to mitigate delays and congestion that would result in the need for Level 3 slot controls.¹⁰ As we emerge from the pandemic, the FAA expects that all carriers operating at EWR will respect the targeted hourly and half-hourly scheduling limits and continue to work cooperatively with the FAA in order to avoid unacceptable delays and other adverse operational impacts at the airport. The Level 2 process at EWR does not provide priority consideration for flights that were scheduled or operated without approved runway times.¹¹

¹⁰ See FAA Slot Administration website “Slot Administration—U.S. Level 2 Airports” available at: https://www.faa.gov/about/office_org/headquarters_offices/ato/service_units/systemops/perf_analysis/slot_administration/slot_administration_schedule_facilitation/level-2-airports.

¹¹ Change of Newark Liberty International Airport (EWR) Designation, 81 FR 19861 at 19862 (April, 6, 2016). Note: The WSG recognizes that some carriers might operate at times without approval from the airports schedule facilitator. Further, the Change of EWR Designation notice provides “consistent with the WSG carriers would not receive historic status for such flights if the airport level changes from Level 2 to Level 3.”

Issued in Washington, DC, on September 30, 2022.
Alyce Hood-Fleming,
Acting Vice President, System Operations Services.

[FR Doc. 2022-21693 Filed 10-3-22; 11:15 am]

BILLING CODE 4910-13-P